DEPARTMENT OF ENERGY

Federal Energy Regulatory Commission

Combined Notice of Filings

Take notice that the Commission has received the following Natural Gas Pipeline Rate and Refund Report filings:

Filings Instituting Proceedings

Docket Numbers: CP20-9-000.

Applicants: Transcontinental Gas Pipe Line Company, LLC.

Description: Abbreviated Application for Abandonment of Service for City of Danville, Virginia of Transcontinental Gas Pipe Line Company, LLC.

Filed Date: 10/31/19.

Accession Number: 20191031-5048.

Comments Due: 5 p.m. ET 11/21/19.

Docket Numbers: RP20-204-000.

Applicants: Southern Natural Gas Company, L.L.C.

Description: Compliance filing Abandon Rate Schedule X-45 Compliance Filing CP19-510 to be effective 1/1/2020.

Filed Date: 11/5/19.

Accession Number: 20191105-5046.

Comments Due: 5 p.m. ET 11/18/19.

Docket Numbers: RP20-205-000.

Applicants: National Fuel Gas Supply Corporation.

Description: Tariff Cancellation: Cancellation of the X-9 Rate Schedule to be effective 12/5/2019.

Filed Date: 11/5/19.

Accession Number: 20191105-5113.

Comments Due: 5 p.m. ET 11/18/19.

Docket Numbers: RP20-206-000.

Applicants: Wyoming Interstate Company, L.L.C.

Description: § 4(d) Rate Filing: Firm Transportation Service Options to be effective 12/5/2019.

Filed Date: 11/5/19.

Accession Number: 20191105-5140.

Comments Due: 5 p.m. ET 11/18/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 6, 2019.
Kimberly D. Bose,
Secretary.

[FR Doc. 2019-24628 Filed 11-12-19; 8:45 am]

BILLING CODE 6717-01-P